DEPARTMENT OF ENERGY

Federal Energy Regulatory Commission

[Project No. 2582-089]

Rochester Gas and Electric Corporation; Notice of Effectiveness of Withdrawal of Application for Amendment of License

On June 17, 2022, Rochester Gas and Electric Corporation (licensee) filed an application for non-capacity amendment of the license for the 14.8-megawatt Station No. 2 Hydroelectric Project No. 2582. On May 26, 2023, the licensee filed a notice of withdrawal of the amendment application. The project is located on the Genesee River in the City of Rochester, Monroe County, New York.

No motion in opposition to the notice of withdrawal has been filed, and the Commission has taken no action to disallow the withdrawal. Pursuant to Rule 216(b) of the Commission's Rules of Practice and Procedure,¹ the withdrawal of the application became effective on June 12, 2023,² and this proceeding is hereby terminated.

¹ 18 CFR 385.216(b) (2022).

² The Commission's Rules of Practice and Procedure provide that if a deadline falls on a Saturday, Sunday, holiday, or other day when the Commission is closed for business, the deadline does not end until the close of business on the next business day. 18 CFR 385.2007(a)(2) (2022). Because the 15-day deadline fell on a Saturday (i.e., June 10, 2023), the deadline was extended until the close of business on Monday, June 12, 2023.

Dated: June 15, 2023.
Kimberly D. Bose,
Secretary.

[FR Doc. 2023-13258 Filed 6-21-23; 8:45 am]

BILLING CODE 6717-01-P